DEPARTMENT OF LABOR

Employment and Training Administration

Notice of Funding Opportunity and Solicitation for Grant Applications (SGA) for the Enhanced Transitional Jobs Demonstration (ETJD)

AGENCY: Employment and Training Administration, Labor.

ACTION: Notice of Solicitation for Grant Applications (SGA).

Funding Opportunity Number: SGA/DFA PY 10-11.

SUMMARY: Through this notice, the Department of Labor's Employment and Training Administration (ETA) announces the availability of approximately $40 million in grant funds authorized by the Consolidated Appropriations Act of 2010 to support successful applicants in providing enhanced transitional jobs (ETJ) programs, as well as other activities and services, to increase the workforce participation of low-income, hard-to-employ populations, specifically non-custodial parents and/or ex-offenders reentering their communities. ETA intends to fund grantees proposing to implement ETJ program models that go beyond transitional jobs (TJ) programs currently operating or tested previously. ETA seeks applications from either Local Workforce Investment Boards or non-profit community or faith-based organizations with 503(c)(3) IRS status with experience with providing TJ programs, or that represents a partnership that includes an organization with experience providing TJ programs. Applicants must demonstrate that a relationship exists with the required partners or that such a relationship could be established quickly because of existing connections and agreements to work together. Applicants may also include other partners that can provide needed services for program participants and/or refer participants to the applicant as described in the SGA. Upon selection, all grantees will be required to participate in a random assignment evaluation.

The complete SGA and any subsequent SGA amendments, in connection with the Consolidated Appropriations Act of 2010 is described in further detail on ETA's Web site at http://www.doleta.gov/grants or on http://www.grants.gov. The Web sites provide application information, eligibility requirements, review and selection procedures and other program requirements governing this solicitation.

DATES: The closing date for receipt of applications is April 15, 2011.

FOR FURTHER INFORMATION CONTACT: Mamie Williams, 200 Constitution Avenue, NW., Room N4716, Washington, DC 20210; telephone: 202-693-3341.

Signed at Washington, DC, this 28th day of February, 2011.
Eric Luetkenhaus,
Grant Officer, Employment and Training Administration.

[FR Doc. 2011-4788 Filed 3-2-11; 8:45 am]

BILLING CODE 4510-FN-P